DEPARTMENT OF HEALTH AND HUMAN SERVICES

Health Resources and Services Administration

Telehealth Network Competitive Grant Announcement HRSA-03-049

AGENCY: Health Resources and Services Administration, HHS.

ACTION: Notice of availability of funds.

SUMMARY: This announcement replaces the announcement published on page 60 of the Fall 2002 HRSA Preview and the Federal Register dated August 9, 2002, Vol. 67, No.154.

The Health Resources and Services Administration's (HRSA), Office for the Advancement of Telehealth (OAT), announces the availability of funds for fiscal year (FY) 2003 awards for approximately 20 Telehealth Network Grants. HRSA will award grants to demonstrate how telehealth network projects in rural areas, in medically underserved areas, in frontier communities, and for medically underserved populations, can be used to: (a) Expand access to, coordinate, and improve the quality of health care services; (b) improve and expand the training of health care providers; and (c) expand and improve the quality of health information available to health care providers, patients, and their families. The primary objective of the Telehealth Network Grant Program (TNGP) is to help communities build the human, technical, and financial capacity to develop sustainable telehealth programs and networks.

Available Funding: At the time this Federal Register Notice is issued, HRSA is operating under a Continuing Resolution. Assuming that this level of funding continues, there will be available approximately $5 million to support up to 20 Telehealth Network Grant awards in FY 2003. It is expected that the average TNGP award will be approximately $250,000. These estimates are subject to change if an appropriations act providing otherwise is enacted. After the first year, continuation funding will depend on reasonable progress and on the availability of funds. There are no matching requirements for this program.

Eligible Applicants: The applicant shall be a nonprofit entity that will provide services through a telehealth network. Although the grant recipient may not be a profit making entity, each entity participating in the telehealth network may be either a nonprofit or for-profit entity. Faith-based and community-based organizations are encouraged to apply.

The telehealth network shall include at least two (2) of the following entities (at least one (1) of which shall be a community-based health care provider):

(a) Community or migrant health centers or other federally qualified health centers;

(b) Health care providers, including pharmacists, in private practice;

(c) Entities operating clinics, including rural health clinics;

(d) Local health departments;

(e) Nonprofit hospitals, including community (critical) access hospitals;

(f) Other publicly funded health or social service agencies;

(g) Long-term care providers;

(h) Providers of health care services in the home;

(i) Providers of outpatient mental health services and entities operating outpatient mental health facilities;

(j) Local or regional emergency health care providers;

(k) Institutions of higher education, and/or

(l) Entities operating dental clinics.

Authorizing Legislation: The Telehealth Network Grant Program is authorized by Section 330I of the Public Health Service Act. The Health Care Safety Net Amendments of 2002, Public Law 107-251, amended the Public Service Act by adding Section 330I.

Where to Request and Send Applications: To obtain an application kit, contact the HRSA Grants Application Center at their toll-free telephone number (1-877-477-2123) and request the OMB Catalogue of Federal Domestic Assistance number (CFDA) 93.211, citing “Telehealth Network Grant Program.” To submit the completed kit: Send the original and two copies of your grant application to: HRSA Grants Application Center, Attention: HAB Grants Management Officer, CFDA # 93.211, HRSA-03-049, 901 Russell Avenue, Suite 450, Gaithersburg, MD 20879. Applications sent to any other address are subject to being returned.

Application Dates: A letter of intent to submit an application is requested by February 20, 2003. Applications for this announced grant must be received in the HRSA Grants Application Center by close of business April 7, 2003. Applications shall be considered as meeting the deadline if they are (1) received on or before the deadline date or (2) postmarked on or before the deadline date and received in time for orderly processing and submission to the review committee. Applicants should request a legibly dated receipt from a commercial carrier or U.S. Postal Service postmark. Private metered postmarks will not be accepted as proof of timely mailing. Applications postmarked after the due date will be returned to the applicant.

ADDRESSES: Using the form in the application, letters of intent are requested for OAT to determine how many will apply. Letters of intent to apply for funding should be faxed to (301) 443-1330 or e-mailed to Monica Cowan at mcowan@hrsa.gov.

FOR FURTHER INFORMATION CONTACT: Inquiries regarding programmatic and technical information may be made to (301) 443-0447 or to the following e-mail address: THGP@hrsa.gov. Telephone responses, where appropriate, will be made within 48 hours by an OAT staff member.

SUPPLEMENTARY INFORMATION: Applications will be reviewed by an objective review committee. The review criteria will include:

(1) Needs assessment and development of goals and objectives (e.g., Does the applicant demonstrate knowledge of the region's health status, referral and usage patterns, issues of practitioner recruitment/retention, other telehealth activities in the region, etc? Are the expected outcomes for each objective described using qualitative and quantitative measures?);

(2) Program priorities—Does the applicant address any or all of the following: (a) Clinical telemedicine networks that address chronic conditions (e.g., asthma, diabetes) in a variety of settings, such as patient homes, schools, and other community settings; (b) projects that are designed to demonstrate improved health care outcomes (e.g., improved access, productivity, dollars saved) as well as improved quality of services (e.g. reduction of medical errors); (c) clinical telemedicine networks that include distance-learning education for health professionals, and patients and their families, if such activities are in conjunction with the delivery of health services; and (d) clinical telemedicine networks that integrate their telemedicine information system into overall electronic clinical information systems (e.g. electronic medical record) used by network members.

(3) Implementation and monitoring of the work plan (e.g., Is the proposed work plan feasible? Are the qualifications and responsibilities of key individuals in the telehealth network clearly identified?);

(4) Community involvement, cost participation, and sustainability (e.g., How will network members and members of the community have an active role in planning the telehealth network project? Does the applicant demonstrate a long-term commitment to the project, beyond the 3-year funding cycle?);

(5) Evaluation and dissemination (e.g. Do the data collection tools and strategies directly address the objectives outlined for the program? Is there a plan for disseminating information about the project, including “lessons learned?”); and

(6) Budget (e.g. Are program needs for equipment, supplies, contractual services, etc., adequately justified in terms of the goal(s), objectives, and proposed activities?).

The Secretary will give preference to an eligible entity that meets at least one (1) of the following requirements:

(a) Organization—The eligible entity is a rural community-based organization, other community-based organization, or a faith-based organization.

(b) Service—The eligible entity proposes to use Federal funds made available through such a grant to develop plans for, or to establish, telehealth networks that provide mental health, public health, long-term care, home care, preventive health, or case management services.

(c) Coordination—The eligible entity demonstrates how the project to be carried out under the grant will be coordinated with other relevant federally funded projects in the areas, communities, and populations to be served through the grant.

(d) Network—The eligible entity demonstrates that the project involves a telehealth network that includes an entity that—

(i) Provides clinical health care services, or educational services for health care providers and for patients or their families; and

(ii) Is—

(I) A public school;

(II) A public library;

(III) An institution of higher education; or

(IV) A local government entity.

(e) Connectivity—The eligible entity proposes a project that promotes local connectivity within areas, communities, or populations to be served through the project.

(f) Integration—The eligible entity demonstrates that health care information has been integrated into the project.

Priority will be given to applications that address the following program priorities:

(g) Clinical telemedicine networks that address chronic conditions (e.g., asthma, diabetes) in a variety of settings, such as patient homes, schools, and other community settings;

(h) Projects designed to improve health care outcomes (e.g., improved access, productivity, dollars saved) as well as improved quality of services (e.g., reduction of medical errors);

(i) Clinical telemedicine networks that include distance-learning education for health professionals, and patients and their families, if such activities are in conjunction with the delivery of health services; and

(j) Clinical telemedicine networks that integrate their telemedicine information system into overall electronic clinical information systems (e.g., electronic medical record) used by network members.

Note: In accordance with Public Law 107-251, (a) the total amount of funds awarded for rural projects for FY 2003 shall not be less than the total amount of funds awarded for FY 2001 under section 330A, and (b) the funds will be distributed so that not less than 50 percent of the total funds awarded under this program announcement shall be awarded for projects in rural areas.

Paperwork Reduction Act: Should any of the data collection activities associated with this grant program fall under the purview of the Paper Reduction Act of 1995, OMB approval will be sought.

Dated: January 22, 2003.
Elizabeth M. Duke,
Administrator.

[FR Doc. 03-2823 Filed 2-5-03; 8:45 am]

BILLING CODE 4165-15-P